DEPARTMENT OF DEFENSE

Department of the Navy

Notice of Availability of Finding

AGENCY: Department of the Navy, DoD.

ACTION: Notice.

SUMMARY: Pursuant to Section 102(2)(C) of the National Environmental Policy Act (NEPA) of 1969 and the Council on Environmental Quality regulations (40 CFR parts 1500-1508), implementing procedural provisions of NEPA, and Executive Order (EO) 12114, Environmental Effects Abroad of Major Federal Actions, the Department of the Navy (DON) gives notice that a combined Finding of No Significant Impact (FONSI)/Finding of No Significant Harm (FONSH) has been issued and is available for Carrier Strike Group Joint Task Force Exercise (CSG JTFEX) July 2008.

DATES: The effective date of the finding is July 2, 2008.

ADDRESSES: Electronic copies of the combined FONSI/FONSH are available for public viewing or downloading at http://www.navydocuments.com.

FOR FURTHER INFORMATION CONTACT: Commander, Second Fleet Public Affairs, Commander Phillips telephone: 757-443-9822 or visit http://www.navydocuments.com.

SUPPLEMENTARY INFORMATION: CSG JTFEX (July 2008) is a major Navy Atlantic Fleet training exercise proposed to occur in July 2008 in the offshore Charleston and Jacksonville Operating Areas (OPAREAs) and adjacent military installations. The purpose of this exercise is to certify naval forces as combat-ready. Activities conducted during the exercise include air-to-ground (ATG) bombing at land ranges, Combat Search and Rescue (CSAR), Maritime Interdiction Operations (MIO), Naval Gunfire using non-explosive ordnance, Fast Attack Craft/Fast Inshore Attack Craft (FAC/FIAC), and Anti-Submarine Warfare (ASW), including use of mid-frequency active (MFA) sonar.

The FONSI is based on analysis contained in a Comprehensive Environmental Assessment (EA) addressing environmental impacts associated with land-based training for Major Atlantic Fleet Training Exercises on the East and Gulf Coasts of the U.S. (February 2006). The FONSH is based on analysis contained in a Comprehensive Overseas Environmental Assessment (OEA) (February 2006) and a Supplement to the Comprehensive OEA (SOEA) for environmental impacts associated with Navy's conduct of major exercise training in offshore operating areas along the East and Gulf Coasts of the U.S. (April 2008).

Environmental concerns addressed in the EA included land use, community facilities, coastal zone management, socioeconomics, cultural resources, airspace, air quality, noise, geology, soils, water resources, biological resources, munitions and hazardous materials management, and safety. The EA and OEA addressed potential impacts to the ocean physical environment, fish and Essential Fish Habitat; sea turtles and marine mammals; seabirds and migratory birds; endangered and threatened species; socioeconomics; and cultural resources. The SOEA included an updated analysis of MFA sonar use.

This action includes mitigation measures to reduce impacts to a level that is less than significant. In accordance with the Major Atlantic Fleet Training Exercise EA and OEA and the SOEA and the evaluation of the nature, scope and intensity of the proposed action, the Navy finds that the conduct of the CSG JTFEX in July 2008 will not significantly impact or harm the environment and, therefore, an Environmental Impact Statement or Overseas Environmental Impact Statement is not required.

Dated: July 1, 2008.
T. M. Cruz,
Lieutenant Commander, Judge Advocate General's Corps, U.S. Navy, Federal Register Liaison Officer.

[FR Doc. E8-15400 Filed 7-7-08; 8:45 am]

BILLING CODE 3810-FF-P